DEPARTMENT OF COMMERCE

Foreign-Trade Zones Board

[B-63-2013]

Foreign-Trade Zone 65—Panama City, Florida; Application for Reorganization Under Alternative Site Framework

An application has been submitted to the Foreign-Trade Zones (FTZ) Board by the Panama City Port Authority, grantee of FTZ 65, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on June 18, 2013.

FTZ 65 was approved by the FTZ Board on January 16, 1981 (Board Order 171, 46 FR 8072, 1/26/81), and expanded on March 3, 1987 (Board Order 343, 52 FR 7634, 3/12/87), and on September 25, 2009 (Board Order 1646, 74 FR 53216, 10/16/09). The current zone includes the following sites: Site 1 (125 acres)—Port Panama City Industrial Park located on the St. Andrew Bay and the Intra-coastal Waterway in Panama City; Site 2 (174 acres)—Hugh Nelson Industrial Park located off Highway 390 in Lynn Haven; Site 3 (505 acres total)—Bay Industrial Park (254 acres) located northeast of the intersection of Highway 231 and Highway 167 in Bay County and Bay Intermodal Park (251 acres) located at Highway 231 and Commerce Boulevard in Panama City; Site 4 (83 acres total)—within the 130-acre Tommy R. McDonald Industrial Park located at Industrial Drive and Commerce Avenue in Chipley (78 acres) and at 1076 Brickyard Road in Chipley (5 acres, expires 7/31/2014); and, Site 5 (214 acres)—Washington County Industrial Park located north of Highway 90 at intersection of Highway 273 and North Boulevard in Chipley.

The grantee's proposed service area under the ASF would be Bay and Washington Counties, Florida, as described in the application. If approved, the grantee would be able to serve sites throughout the service area based on companies' needs for FTZ designation. The proposed service area is adjacent to the Panama City Customs and Border Protection port of entry.

The applicant is requesting authority to reorganize its existing zone as follows: (1) Modify Site 3 by reinstating 5 acres at the Bay Industrial Park which will now consist of 259 acres (new overall site total—510 acres); (2) modify Site 4 by removing the 5 acres located at 1076 Brickyard Road in Chipley (new overall site total—78 acres); and, (3) Sites 1, 2 (as modified), 3, 4 (as modified) and 5 will be designated as “magnet” sites. The ASF allows for the possible exemption of one magnet site from the “sunset” time limits that generally apply to sites under the ASF, and the applicant proposes that Site 1 be so exempted. No subzones or usage-driven sites are being requested at this time. The application would have no impact on FTZ 65's previously authorized subzone.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is August 23, 2013. Rebuttal comments in response to material submitted during the foregoing period may be submitted during the subsequent 15-day period to September 9, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: June 18, 2013.
Elizabeth Whiteman,
Acting Executive Secretary.

[FR Doc. 2013-15012 Filed 6-21-13; 8:45 am]

BILLING CODE 3510-DS-P